DEPARTMENT OF THE INTERIOR

National Park Service

Notice of Intent To Conduct a Special Resource Study, Environmental Impact Statement, for the Delaware Coastal Area in the State of Delaware, and To Hold Public Scoping Meetings

AGENCY: National Park Service, Department of the Interior.

ACTION: Notice of Intent to prepare an Environmental Impact Statement for the Special Resource Study for the Delaware Coastal Area in the state of Delaware, and to hold public scoping meetings.

SUMMARY: Pursuant to the National Environmental Policy Act of 1969, 42 U.S.C. 4332(2)(C), the National Park Service is preparing an Environmental Impact Statement (EIS) for the Special Resource Study (SRS) for the Delaware Coastal Area in the state of Delaware. This SRS was authorized in Public Law 109-338 including its mandate for conformance with section 8(c) of Public Law 91-383. The purpose of an SRS is to determine the degree and kind of Federal actions that may be desirable for the management and protection of an area considered to have potential for addition to the National Park System. This is an SRS of the coastal region of the state of Delaware, and a study of the many themes that relate to how those resources were used throughout history in that region. The study area will include the entire coastal area of the state of Delaware. Additional sites or locations in Delaware may also need to be considered during the study process.

The SRS/EIS will address a range of alternatives including any potential roles for the NPS in preservation and interpretation of the resources of the study area. Alternatives to be considered include: No action, the potential for congressional designation of all or part of the study area as a unit of the National Park system, and any other appropriate alternative that may arise during the study process.

The EIS will assess the impacts of the alternatives presented in the SRS. The public scoping meetings will include a discussion of the SRS and the EIS process including ways that the public can be involved in providing and receiving information, and reviewing and commenting upon the draft study and associated draft EIS. The purpose of the meeting is to solicit public input prior to formally undertaking the study.

DATES: The Park Service will accept comments from the public through 60 days from the date of publication of the Environmental Protection Agency's Notice of Intent in the Federal Register. The place and time of public scoping meetings in both the City of Wilmington and in Georgetown (southern Delaware) will be announced by the National Park Service (NPS) and noticed in local newspapers serving the area. Notice of the meetings will also be posted on the project Web site: www.nps.gov/nero/delasrs.

ADDRESSES: Information will be available for public review and comment online at http://parkplanning.nps.gov, or in the NPS Northeast Regional Office, Division of Park Planning and Special Studies, 200 Chestnut Street, Philadelphia, PA 19106.

FOR FURTHER INFORMATION CONTACT: Peter Samuel: Planner/Project Leader, National Park Service, Northeast Region, 200 Chestnut Street, 3rd Floor, Philadelphia, PA 19106-2878. E-mail address: peter_samuel@nps.gov. Telephone: 215-597-1848.

SUPPLEMENTARY INFORMATION: Everyone interested in this study and the future protection and management of this area is encouraged to attend the public scoping meetings or to contact: Peter Samuel, National Park Service Planner/Project Leader, by letter, e-mail or telephone for further information. A summary of the meeting comments will be posted on the project Web site and distributed in hard copy to anyone requesting it. If you wish to comment on the scoping or on any other issues associated with the plan, you may submit your comments by any one of several methods. You may mail comments to Peter Samuel (as listed above). You may also comment via the Internet at http://parkplanning.nps.gov. If you do not receive a confirmation from the system that we have received your Internet message, contact us directly at Division of Park Planning and Special Studies, 200 Chestnut Street, Philadelphia, PA 19106—215-597-1848. Finally, you may hand-deliver comments to the address above. Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

Dated: March 2, 2007.
Dennis Reidenbach,
Acting Regional Director, Northeast Region, National Park Service .

[FR Doc. E7-10438 Filed 5-30-07; 8:45 am]

BILLING CODE 4312-J6-P